FEDERAL COMMUNICATIONS COMMISSION

[Report No. AUC-05-81-B (Auction No. 81); DA 05-505]

Applicants for Low Power Television Construction Permits To Be Awarded in Auction No. 81 Must Submit Supplemental Information by March 18, 2005

AGENCY: Federal Communications Commission.

ACTION: Notice.

SUMMARY: This document notifies applicants in the upcoming auction of construction permits for certain low power television (LPTV), television translator and Class A Television broadcast stations (Auction No. 81) that they must provide to the Commission their FCC Registration Number (FRN) by March 18, 2005 in order to participate in the auction. Auction No. 81 is scheduled to commence on September 14, 2005.

DATES: FCC Registration Number (FRN) must be submitted by March 18, 2005.

ADDRESSES: FRN may be sent by electronic mail to the following address: auction81@fcc.gov. In the alternative, an applicant may send an FRN by facsimile to Kathryn Garland at (717) 338-2850.

FOR FURTHER INFORMATION CONTACT: FCC Technical Support at 1-877-480-3201 option 9, (202) 414-1250, or (202) 414-1255 (TTY). Hours of service: Monday through Friday 8 a.m. to 6 p.m. e.t. For legal questions: Lynne Milne at (202) 418-0660.

SUPPLEMENTARY INFORMATION: This is a summary of the Commission's Public Notice released February 28, 2005, Auction No. 81 Supplemental Public Notice. The complete text of the Auction No. 81 Supplemental Public Notice, is available for public inspection and copying during regular business hours at the FCC Reference Information Center, Portals II, 445 12th Street, SW., Room CY-A257, Washington, DC 20554. The Auction No. 81 Supplemental Public Notice and related Commission documents may also be purchased from the Commission's duplicating contractor, Best Copy and Printing, Inc. (BCPI), Portals II, 445 12th Street, SW., Room CY-B402, Washington, DC 20554, telephone (202) 488-5300, facsimile (202) 488-5563, or you may contact BCPI at its Web site: http://www.BCPIWEB.com. When ordering documents from BCPI, please provide the appropriate FCC document number (for example, DA 05-505 for the Auction No. 81 Supplemental Public Notice). The Auction No. 81 Supplemental Public Notice and related documents are also available on the Internet at the Commission's Web site: http://wireless.fcc.gov/auctions/81/.

I. General Information

1. On June 23, 2000, the Mass Media Bureau and Wireless Telecommunications Bureau (the “Bureaus”) announced a limited auction filing window for certain low power television (LPTV), television translator, and Class A television broadcast stations. See Notice and Filing Requirements Regarding July 31 through August 4, 2000 Limited Low Power Television/Television Translator/Class A Television Auction Filing Window, Public Notice, 65 FR 46713 (July 31, 2000), 65 FR 39619 (June 27, 2000). Following the close of that filing window, the Federal Communications Commission (“FCC”) adopted a rule requiring all persons and entities doing business with the FCC to acquire a unique identifying number called the FCC Registration Number (FRN) and to provide it with all applications or feeable filings, as well as other transactions involving payment of money. This requirement became effective on December 3, 2001. Use of an FRN is mandatory for all applicants for Auction No. 81 so that they may log on to the FCC Auctions 175 Application & Search system and continue to participate in the auction process.

2. If an Auction No. 81 applicant does not submit its FRN pursuant to this public notice, the Commission will not review its short-form application (FCC Form 175). A separate Public Notice released February 28, 2005, Low Power Television Auction No. 81 Scheduled for September 14, 2005; Auction No. 81 Applicants Must Provide Supplemental Information by March 18, 2005; Comment Sought On Reserve Prices or Minimum Opening Bids and Other Procedures, DA 05-506, (“Auction No. 81 Comment Public Notice”) announces that the bidding for Auction No. 81 will start on September 14, 2005. That Public Notice also lists in Attachment A the applicants that are required to submit an FRN pursuant to the procedures set forth in this public notice no later than 5 p.m. eastern time (e.t.), Friday, March 18, 2005.

3. To submit an FRN for association with a pending application, each listed applicant must provide its precise applicant name and FRN in an e-mail to auction81@fcc.gov or fax this information to Kathryn Garland at (717) 338-2850. Note that, in some cases, an entity may have obtained multiple FRNs; however, each applicant must submit only the particular FRN that is associated with the Taxpayer Identification Number (TIN) that it used in connection with the initial submission of its short-form application (FCC Form 175) in June of 2000.

4. Applicants for Auction No. 81 must submit this information to the Commission no later than 5 p.m. e.t., Friday, March 18, 2005, in order to maintain status to participate in this auction. Any applicant that is listed in Attachment A of the Auction No. 81 Comment Public Notice (DA 05-506) which fails to submit its FRN exactly as prescribed by this public notice by the March 18th deadline will have its pending engineering proposals dismissed and will be ineligible to participate in Auction No. 81.

5. Applicants that do not have an FRN must obtain one by registering using the FCC's Commission Registration System (CORES). To access CORES, point your Web browser to the FCC Auctions page at http://wireless.fcc.gov/auctions/ and click the CORES link under Related Sites. Next, follow the directions provided to register and receive your FRN. Be sure to retain this number and password and keep such information strictly confidential.

Federal Communications Commission.
Gary D. Michaels,
Deputy Chief, Auction and Spectrum Access Division, WTB.

[FR Doc. 05-4726 Filed 3-9-05; 8:45 am]

BILLING CODE 6712-01-P